DEPARTMENT OF HEALTH AND HUMAN SERVICES

Food and Drug Administration

[Docket No. 00D-1033]

Agency Information Collection Activities; Announcement of OMB Approval; Information Program on Clinical Trials for Serious and Life-Threatening Diseases; Correction

AGENCY: Food and Drug Administration, HHS.

ACTION: Notice, correction.

SUMMARY: The Food and Drug Administration (FDA) is correcting a notice that appeared in the Federal Register of March 23, 2001 (66 FR 16251). The document announced that a collection of information entitled “Information Program on Clinical Trials for Serious and Life-Threatening Diseases” had been approved by the Office of Management and Budget (OMB) under the Paperwork Reduction Act of 1995. The document was published with an inadvertent error. This document corrects that error.

FOR FURTHER INFORMATION CONTACT: JonnaLynn P. Capezzuto, Office of Information Resources Management (HFA-250), Food and Drug Administration, 5600 Fishers Lane, Rockville, MD 20857, 301-827-4659.

SUPPLEMENTARY INFORMATION: In FR Doc. 01-7244, appearing on page 16251 in the Federal Register of Friday, March 23, 2001, the following correction is made:

On page 16251, in the first column, under SUPPLEMENTARY INFORMATION, the OMB control number “0910-0116” is corrected to read “0910-0459”.

Dated: April 11, 2001.
William K. Hubbard,
Senior Associate Commissioner for Policy, Planning, and Legislation.

[FR Doc. 01-9458 Filed 4-16-01; 8:45 am]

BILLING CODE 4160-01-S